LIBRARY OF CONGRESS

Copyright Office

[Docket No. 2023-5]

Exemptions To Permit Circumvention of Access Controls on Copyrighted Works: Notice of Public Hearings

AGENCY: Copyright Office, Library of Congress.

ACTION: Notice of public hearings.

SUMMARY: The United States Copyright Office will hold public hearings as part of the ninth triennial rulemaking proceeding under the Digital Millennium Copyright Act (“DMCA”) concerning proposed exemptions to the DMCA's prohibition against circumvention of technological measures that control access to copyrighted works. Parties interested in testifying at the hearings are invited to submit requests to testify pursuant to the instructions set forth below.

DATES: Public hearings will be scheduled for the week of April 15-19, 2024. Requests to testify must be received no later than 11:59 p.m. Eastern time on March 1, 2024. The Office will prepare a schedule based on the number and nature of requests to testify. Once the schedule of hearing witnesses is finalized, the Office will notify all participants and post the times, dates, and agenda of the hearings at https://www.copyright.gov/1201/2024/.

ADDRESSES: The Office will conduct the hearings remotely using the Zoom videoconferencing platform. Requests to testify should be submitted through the request form available at http://www.copyright.gov/1201/2024/hearing-request.html.

FOR FURTHER INFORMATION CONTACT: Rhea Efthimiadis, Assistant to the General Counsel, by email at meft@copyright.gov or by telephone at (202) 707-8350.

SUPPLEMENTARY INFORMATION: On June 8, 2023, the Copyright Office (“Office”) published a notice of inquiry in the Federal Register to initiate the ninth triennial rulemaking proceeding under 17 U.S.C. 1201(a)(1), which provides that the Librarian of Congress, upon recommendation of the Register of Copyrights, may exempt certain classes of copyrighted works from the prohibition against circumventing a technological measure that controls access to a copyrighted work.¹ On October 19, 2023, the Office published a notice of proposed rulemaking setting forth proposed exemptions for seven new or expanded classes of works and requesting written comments.² The responsive comments received thus far are posted on the Office's website. See https://www.copyright.gov/1201/2024/.

¹ 88 FR 37486 (June 8, 2023).

² 88 FR 72013 (Oct. 19, 2023).

At this time, the Office is announcing public hearings to be held via Zoom to further consider the proposed exemptions. Each hearing will pertain to a proposed exemption and will feature a panel of witnesses. Hearings will be live-streamed, recorded, transcribed, and posted to the Office's website.

Those who wish to speak on a panel should submit a request to testify by following the procedure detailed below. If the Office does not receive any requests to testify regarding a particular class, it will not host a hearing for that proposed exemption. If the Office receives requests to testify but determines a hearing is not necessary, it will contact requesters.

A. Submitting Requests To Testify

A request to testify should be submitted to the Office using the form on the Office's website indicated in the ADDRESSES section above. Anyone wishing to testify with respect to more than one proposed class must submit a separate form for each request. To the extent feasible, the Office requests that organizations submit only one panelist request per proposed class and encourages parties with similar interests to select a common representative to testify on their behalf. If multiple persons from the same organization wish to testify regarding the same proposed exemption, each should submit a separate request, and explain in their submission the need for multiple witnesses. For parties represented by law school clinics, the Office will attempt to accommodate requests to allow students to participate under the supervision of a faculty member.

Depending on the number and nature of the requests, and in light of the limited time available, the Office may not be able to accommodate all requests to testify. The Office will give preference to those who have submitted substantive comments in support of or in opposition to a proposal.

All requests to testify must clearly identify:

• The name of the person seeking to serve as a witness;

• The organization or organizations represented, if any;

• Contact information;

• The proposed class about which the person seeks to testify;

• A two- to three-sentence summary of the testimony the witness expects to present; and

• If the witness is requesting the ability to demonstrate a use or a technology at the hearing, a description of the demonstration, the approximate time required, and any functionality required to make the demonstration viewable via Zoom. The Office cannot guarantee that witnesses will have the ability to introduce demonstrative evidence into the record during the hearing but will consider options to accommodate such requests.

Following receipt of the requests to testify, the Office will prepare agendas listing the witnesses, dates, and times for each hearing. Once prepared, the agendas will be circulated to witnesses and posted at http://www.copyright.gov/1201/2024.

B. Format of Public Hearings

The Office will establish time limits for each panel after receiving all requests to testify. Generally, the Office plans to allot approximately one to two hours for each proposed class, depending upon the complexity of the class. Members of the public will be provided a limited opportunity to offer additional comments for the record, but parties who wish to provide detailed information to the Office are encouraged to submit a request to testify.

The hearings will focus on legal or factual issues that the Office finds unclear or underdeveloped in the written record, as well as demonstrative evidence. Witnesses should be prepared to discuss, among other things, where the copies of the works sought to be accessed are stored, how those works can be accessed, and what would be done with the works upon access. The Office also encourages witnesses to provide real-world examples, descriptions, or demonstrations of methods of access, uses, and technologies pertinent to a proposal.

Presenters who wish to hold demonstrations should consider whether a demonstration is able to be presented in a format that enables it to be viewed by participants and observers via Zoom. To ensure proper documentation of the hearings, the Office will require that a copy of any audio, visual, or audiovisual materials that have been prepared in advance (e.g., slideshows and videos) be provided to it following the hearing. The Office may contact witnesses individually ahead of time to ensure that demonstrations can be preserved for the record in an appropriate form.

C. Ex-Parte Communications

The Office plans to permit requests for ex parte meetings later this year. Ex parte communications may be used to supplement, but not substitute for, the written record and testimony at the public hearings.

The Office recently issued regulations governing ex parte communications during official rulemakings,³ which will govern in this proceeding. Pursuant to those regulations, summaries of any ex parte hearings will be publicly available on the Office's website and will be part of the written record. The Office will provide more information about the process, including the timing for meetings, on its web page following the completion of the public hearings. No ex parte meetings will be scheduled before that time.

³ 88 FR 54491 (Aug. 11, 2023); see also 37 CFR 205.24.

Dated: February 2, 2024.
Suzanne V. Wilson,
General Counsel and Associate Register of Copyrights.

[FR Doc. 2024-02499 Filed 2-6-24; 8:45 am]

BILLING CODE 1410-30-P